OFFICE OF PERSONNEL MANAGEMENT

Proposed Collection; Comment Request for Review of a Revised Information Collection: Form RI 95-4

AGENCY: Office of Personnel Management.

ACTION: Notice.

SUMMARY: In accordance with the Paperwork Reduction Act of 1995 (Public Law 104-13, May 22, 1995), this notice announces that the Office of Personnel Management (OPM) has submitted to the Office of Management and Budget a request for review of a revised information collection. RI 95-4, Marital Information Required of Refund Applicants, is used by OPM to pay refunds of retirement contributions when the information is not included on the SF 3106, Application for Refund of Retirement Deductions (FERS). To pay these benefits, all applicants for refund must provide information to OPM about their marital status and whether any spouse(s) or former spouse(s) have been informed of the proposed refund.

Approximately 2,600 RI 95-4 forms will be completed annually. We estimate it takes approximately 30 minutes to complete the form. The annual burden is 1,300 hours.

For copies of this proposal, contact Mary Beth Smith-Toomey on (202) 606-8358, or E-mail to mbtoomey@opm.gov.

DATES: Comments on this proposal should be received on or before June 20, 2001.

ADDRESSES: Send or deliver comments to:

John C. Crawford, Chief, FERS Division, Retirement and Insurance Service, U.S. Office of Personnel Management, 1900 E Street, NW, Room 3313, Washington, DC 20415, and

Joseph Lackey, OPM Desk Officer, Office of Information & Regulatory Affairs, Office of Management & Budget, New Executive Office Building, NW, Room 10235, Washington, DC 20503.

For Information Regarding Administrative Coordination—Contact: Donna G. Lease, Team Leader, Forms Analysis and Design, Budget and Administrative Services Division, (202) 606-0623.

U.S. Office of Personnel Management.
Steven R. Cohen,
Acting Director.

[FR Doc. 01-12621 Filed 5-18-01; 8:45 am]

BILLING CODE 6325-50-P